DEPARTMENT OF JUSTICE

Office of Justice Programs

[OJP; NIJ Docket No. 1560]

Compliance Testing Program Administrative Clarification to National Institute of Justice Standard-0101.06, Ballistic Resistance of Body Armor

AGENCY: National Institute of Justice, Justice.

ACTION: Notice.

SUMMARY: The National Institute of Justice (NIJ) is providing notice of its administrative clarification of NIJ Standard 0101.06, “Ballistic Resistance Body Armor” (hereinafter, “NIJ Standard-0101.06”).

SUPPLEMENTARY INFORMATION: NIJ announces an administrative clarification to NIJ Standard-0101.06. This provides additional clarification with regard to NIJ's original intention concerning a statement in the “Foreword” to the NIJ Standard-0101.06. The full text of the administrative clarification can be found on the NIJ JustNet Web site at: http://www.justnet.org/Documents/BA-CTP-clarification_201101.pdf.

FOR FURTHER INFORMATION CONTACT: Casandra Robinson by telephone at 202-305-2596 [Note: this is not a toll-free telephone number], or by e-mail at casandra.robinson@usdoj.gov.

John H. Laub,
Director, National Institute of Justice.

[FR Doc. 2011-22390 Filed 8-31-11; 8:45 am]

BILLING CODE 4410-18-P